DEPARTMENT OF ENERGY

Federal Energy Regulatory Commission

Combined Notice of Filings #2

Take notice that the Commission received the following electric rate filings:

Docket Numbers: ER10-1789-005; ER10-1768-004; ER10-1770-004; ER10-1771-004; ER10-1793-004; ER12-1250-004; ER16-1924-002; ER16-1925-002; ER16-1926-002; ER16-2725-002.

Applicants: PSEG Energy Resources & Trade LLC, PSEG Energy Solutions LLC, PSEG Fossil LLC, PSEG New Haven LLC, PSEG Nuclear LLC, PSEG Power Connecticut LLC, Pavant Solar II LLC, Bison Solar LLC, San Isabel Solar LLC, Public Service Electric and Gas Company.

Description: Updated Market Analysis Update for Northeast Region of the PSEG Companies.

Filed Date: 12/28/16.

Accession Number: 20161228-5212.

Comments Due: 5 p.m. ET 2/27/17.

Docket Numbers: ER10-2179-033; ER10-2181-032; ER10-2182-032.

Applicants: Calvert Cliffs Nuclear Power Plant, LLC, Nine Mile Point Nuclear Station, LLC, R.E. Ginna Nuclear Power Plant, LLC.

Description: Updated Market Power Analysis for the Northeast Region of the Constellation Energy Nuclear Group entities.

Filed Date: 12/29/16.

Accession Number: 20161229-5085.

Comments Due: 5 p.m. ET 2/27/17.

Docket Numbers: ER10-2997-005; ER10-2172-028; ER10-3003-005; ER10-1048-025; ER10-2192-029; ER15-1537-006; ER15-1539-006; ER11-2056-021; ER10-2178-029; ER14-1524-008; ER16-2194-002; ER10-3308-025; ER10-3018-005; ER10-3015-005; ER10-1020-023; ER13-1536-013; ER10-1078-023; ER10-1080-023; ER16-2708-002; ER10-1081-024; ER15-2293-002; ER14-2145-006; ER10-2180-027; ER10-1143-024; ER10-2992-005; ER10-3030-005.

Applicants: Atlantic City Electric Company, Baltimore Gas and Electric Company, Bethlehem Renewable Energy, LLC, Commonwealth Edison Company, Constellation Energy Commodities Group Maine, LLC, Constellation Energy Services, Inc., Constellation Energy Services of New York, Inc., Constellation Mystic Power, LLC, Constellation NewEnergy, Inc., Constellation Power Source Generation, LLC, Clinton Battery Utility, LLC, Criterion Power Partners, LLC, Delmarva Power & Light Company, Eastern Landfill Gas, LLC, Exelon Framingham, LLC, Exelon Generation Company, LLC, Exelon New Boston, LLC, Exelon West Medway, LLC, Exelon West Medway II, LLC, Exelon Wyman, LLC, Fair Wind Power Partners, LLC, Fourmile Wind Energy, LLC, Handsome Lake Energy, LLC, PECO Energy Company, Pepco Energy Services, Inc., Potomac Electric Power Company.

Description: Updated Market Power Analysis for the Northeast Region of the Exelon Northeast entities.

Filed Date: 12/29/16.

Accession Number: 20161229-5147.

Comments Due: 5 p.m. ET 2/27/17.

Docket Numbers: ER16-2364-001.

Applicants: Algonquin SKIC 10 Solar, LLC.

Description: Notice of Non-Material Change in Status of Algonquin SKIC 10 Solar, LLC.

Filed Date: 12/29/16.

Accession Number: 20161229-5115.

Comments Due: 5 p.m. ET 1/19/17.

Docket Numbers: ER17-696-000.

Applicants: Calpine Energy Solutions, LLC.

Description: § 205(d) Rate Filing: Notice of Succession and Revisions to Market-Based Rate Tariff to be effective 12/30/2016.

Filed Date: 12/29/16.

Accession Number: 20161229-5019.

Comments Due: 5 p.m. ET 1/19/17.

Docket Numbers: ER17-697-000.

Applicants: Tenaska Alabama Partners, L.P.

Description: § 205(d) Rate Filing: Market-Based Rate Tariff Revisions to be effective 12/30/2016.

Filed Date: 12/29/16.

Accession Number: 20161229-5088.

Comments Due: 5 p.m. ET 1/19/17.

Docket Numbers: ER17-698-000.

Applicants: Tenaska Alabama II Partners, L.P.

Description: § 205(d) Rate Filing: Market-Based Rate Tariff Revisions to be effective 12/30/2016.

Filed Date: 12/29/16.

Accession Number: 20161229-5089.

Comments Due: 5 p.m. ET 1/19/17.

Docket Numbers: ER17-699-000.

Applicants: Tenaska Georgia Partners, L.P.

Description: § 205(d) Rate Filing: Market-Based Rate Tariff Revisions to be effective 12/30/2016.

Filed Date: 12/29/16.

Accession Number: 20161229-5090.

Comments Due: 5 p.m. ET 1/19/17.

Docket Numbers: ER17-700-000.

Applicants: Tenaska Virginia Partners, L.P.

Description: § 205(d) Rate Filing: Market-Based Rate Tariff Revisions to be effective 12/30/2016.

Filed Date: 12/29/16.

Accession Number: 20161229-5091.

Comments Due: 5 p.m. ET 1/19/17.

Docket Numbers: ER17-701-000.

Applicants: Midcontinent Independent System Operator, Inc.

Description: § 205(d) Rate Filing: 2016-12-29_SA 2985 MidAmerican-MidAmerican GIA (J499) to be effective 12/30/2016.

Filed Date: 12/29/16.

Accession Number: 20161229-5093.

Comments Due: 5 p.m. ET 1/19/17.

Docket Numbers: ER17-702-000.

Applicants: Midcontinent Independent System Operator, Inc.

Description: § 205(d) Rate Filing: 2016-12-29_SA 2986 MidAmerican-MidAmerican GIA (J501) to be effective 12/30/2016.

Filed Date: 12/29/16.

Accession Number: 20161229-5095.

Comments Due: 5 p.m. ET 1/19/17.

Docket Numbers: ER17-703-000.

Applicants: PacifiCorp.

Description: § 205(d) Rate Filing: BPA NITSA (Yakama) Rev 7 to be effective 12/1/2016.

Filed Date: 12/29/16.

Accession Number: 20161229-5101.

Comments Due: 5 p.m. ET 1/19/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 29, 2016.
Nathaniel J. Davis, Sr.,
Deputy Secretary.

[FR Doc. 2016-32043 Filed 1-5-17; 8:45 am]

BILLING CODE 6717-01-P